DEPARTMENT OF COMMERCE

Minority Business Development Agency

[Docket No. 000724218-3211-06]

Solicitation of Applications for the Native American Business Development Center (NABDC) Program

AGENCY: Minority Business Development Agency, Commerce.

ACTION: Notice.

SUMMARY: In accordance with Executive Order 11625 and 15 U.S.C. 1512, the Minority Business Development Agency (MBDA) is soliciting competitive applications from organizations to operate Native American Business Development Centers (NABDCs) under its Native American Development Center (NABDC) Program.

In order to receive consideration, applicants must comply with all information and requirements contained in this Notice. For-profit entities (including sole-proprietorships, partnerships and corporations), non-profit organizations, state and local government entities, American Indian Tribes and educational institutions are eligible to operate NABDCs.

The NABDC Program has been in operation since 1982. The NABDCs provide generalized management and technical assistance and business development services to Native American business enterprises within their designated geographic service areas.

The NABDC Program requirements further increase the impact of the NABDC projects by requiring that project operators deploy standardized business assistance services to the Native American business public directly, develop a network of strategic partnerships and provide strategic business consulting within the geographic service area. These requirements will be used to generate increased results with respect to financing and contracts awarded to Native American and minority-owed firms and thus, are a key component of this program.

DATES: The closing date for applications for each NABDC project is October 10, 2003. Anticipated time for processing of applications is one hundred twenty (120) days from the date of the publication of this notice.

MBDA anticipates that awards for the NABDC program will be made with a start date of January 1, 2004. Completed applications for the NABDC program must be (1) mailed (USPS postmark) to the address below; or (2) received by MBDA no later than 5:00 p.m. Eastern Daylight Time. Applications postmarked later than the closing date or received after the closing date and time will not be considered.

ADDRESSES: Applicants must submit one signed original plus two (2) copies of the application. Completed application packages must be submitted to: Office of Business Development, Native American Business Development Center Program Office, Office of Executive Secretariat, HCHB, Room 5063, Minority Business Development Agency, U.S. Department of Commerce, 14th Street and Constitution Avenue, NW., Washington, DC 20230.

If the application is hand-delivered by the applicant or his/her representative, one signed original plus two (2) copies of the application must be delivered to Room 1874, which is located at Entrance #10, 15th Street, NW., between Pennsylvania and Constitution Avenues.

FOR FURTHER INFORMATION CONTACT: For further information or to obtain an application package, contact the MBDA National Enterprise Center (NEC) for the geographic service area in which the project will be located or visit MBDA's Minority Business Internet Portal (MBDA Portal) at http://www.mbda.gov.

SUPPLEMENTARY INFORMATION:

Electronic Access

Applicants are encouraged to submit their proposal electronically via the Internet and mail or hand-deliver the original proposal with original signatures by the closing date and time stated above. Applicants may submit their applications on MBDA's website: www.mbda.gov. All required forms are located at this web address. However, the following paper forms must be submitted with original signatures in conjunction with any electronic submissions by the closing date and time stated above: (1) SF-424, Application for Federal Assistance; (2) the SF-424B, Assurances-Non-Construction Programs; (3) the SF-LLL (Rev. 7-97) (if applicable), Disclosure of Lobbying Activities; (4) Department of Commerce Form CD-346 (if applicable), Applicant for Funding Assistance; and (5) the CD-511, Certifications Regarding Debarment, Suspension and Other Responsibility Matters; Drug-Free Workplace Requirements and Lobbying.

Pre-Application Conference: A pre-application conference will be held for the NABDC project solicitation. Contact the MBDA Regional Office for the geographic service area in which the project will be located to receive further information. Proper identification is required for entrance into any Federal building. Notice of the pre-application conference will be available on the MBDA Portal at http://www.mbda.gov.

Authority: Executive Order 11625 and 15 U.S.C. 1512.

Catalog of Federal Domestic Assistance (CFDA): 11.801 Native American Business Development Center Program.

Program Description

MBDA is soliciting applications for the following geographic service areas: North Carolina Cherokee/Ashville, Minnesota Statewide, New Mexico Statewide, North/South Dakota Statewide, Oklahoma Statewide, California Statewide, Arizona Statewide, Northwest (Washington, Oregon, and Idaho).

Through this NABDC Program, MBDA is improving the traditional NABDC Program, by leveraging the full benefit of telecommunications technology, including the Internet, and a variety of online computer-based resources to dramatically increase the level of service that the Centers can provide to Native American and minority-owned firms.

This Program shall also incorporate an entrepreneurial approach to building market stability and improving quality of services delivered. This strategy expands the reach of the Centers by requiring project operators to develop and build upon strategic alliances with public and private sector partners, as a means of reaching out and serving Native American and minority-owned firms with rapid growth potential within the project's geographic service area. In addition, MBDA will establish specialized advanced programs for growth assistance to clients with the capacity to grow and expand. These programs are designed to foster growth assistance to its clients. The NABDC will also encourage collaboration and referrals of clients and non-clients that meet the requirements of these specialized programs and other MBDA sponsored networks. This will provide a comprehensive approach to serving the emerging sector of the Native American business community.

The NABDC will operate through the use of trained professional business consultants who will assist minority entrepreneurs through direct client engagements.

Entreprenuers eligible for assistance under the NABDC Program are Native Americans, Eskimos, African Americans, Puerto Ricans, Spanish-speaking Americans, Aleuts, Asian Pacific Americans, Asian Indians and Hasidic Jews. References throughout this Notice to provide assistance to Native Americans also include the eligible non-Native Americans listed in the preceding sentence. No service will be denied to any member of all eligible groups listed above.

MBDA's new strategic growth initiative is focused on serving emerging minority and Native American firms capable of impacting economic growth and employment. MBDA wants to ensure that NABDC clients are receiving a consistent level of service throughout its funded network. To that end, MBDA will require NABDC consultants to attend a series of training courses designed to achieve standardized services and quality expectations. Further information about the training is provided in this document under the heading of Work Requirements.

Background

Under the NABDC Program, MBDA has selected locations for the establishment of Centers based on the size of the population in those markets and the density of Native American-owned companies, as established by U.S. Census Bureau. While this approach to site selection continues, MBDA shall fund a consistent level of projects from prior years. The NABDC Program stands to gain from the increased use of technology, training and strategic partnering in support of its prescribed performance measures.

The NABDC Program is a mainstay of MBDA's overall business development efforts. The NABDC Program is at the core of the Agency's comprehensive strategy for addressing the needs of growing Native American firms. Under this strategy, the NABDC will be expected to provide the following four types of client services:

1. Client Assessment—This new activity requires the NABDC to conduct a standardized client assessment, which includes identifying the client's immediate and long-term needs, and establishes a projected growth track. MBDA shall provide a new and innovative electronic tool to support this function (see Business Needs Analyzer under the heading of Enhancing the NABDCs through Technology for more details). This activity shall be conducted three times for each client on an annual basis: one at the onset of service delivery, one prior to the end of the second quarter and one prior to the end of the funding year. This process may also include referring the client to any of MBDA's other funded projects that specialize in specific growth assistance and/or strategic partners that are capable of continuing client growth. The referral process may occur in conjunction with NABDC direct assistance.

2. Strategic Business Consulting—This involves providing intensive business consulting services that can be delivered by two methods:

• Personalized Consulting—defined as one-on-one business consulting services utilizing an integrative systems approach to foster the growth of minority firms (see Integrative Systems Approach under the heading Client Services).

• Group Consulting—seminars that provide education and training to Native American entrepreneurs on important business topics. The consulting should be hands-on, practical, and streamlined in order to reflect the time constraints of the typical entrepreneur. In addition, given the proliferation of online resources from MBDA as well as others, this training should be designed to educate clients in the use of the Agency's electronic business assistance tools and in the use of electronic commerce generally to better access suppliers, customers and information.

3. Access to Capital—This involves assisting clients to secure the financial capital necessary to start-up, and thereafter to fuel growth and expansion of their businesses. Undercapitalization has been a major contributor to the failure of business ventures in the minority community over the years. The goal of this activity is to help the entrepreneur obtain the amount of financing appropriate to the scope of the proposed business, thereby helping to ensure the greatest likelihood of success for the client in the marketplace.

4. Access to Markets—This involves assisting clients to identify and access opportunities for increased sales and revenue. Activities include conducting market analysis, identifying sales leads, bid preparation assistance, creating market promotions, and assisting in the development of joint ventures and strategic alliances.

Enhancing the NABDCs Through Technology

Over the last several years, MBDA has developed a variety of new technology tools designed to leverage the benefits of information technology to assist the minority business community. The Agency uses a high-speed network strategy that links all of its funded projects into a single virtual organization. The goal of MBDA is to allow all funded projects to have access to this technology through the MBDA Portal.

The technology tools that will be available to the NABDCs include but are not limited to the following:

• Business Needs Analyzer—a software package designed to standardize and electronically record the Client Assessment process. This tool assists NABDC consultants to interview and benchmark the status, needs and potential growth of its clients. The program is designed and maintained by MBDA and operated by the NABDC.

• Phoenix/Opportunity—an electronic bid-matching system that alerts participating Native American and minority-owned firms of contract and teaming opportunities directly via e-mail. Procurement leads are transmitted to registered firms on a targeted basis according to the company's industry classification and geographic market.

• Resource Locator—a software application that allows MBEs to search for business resources interactively on the Internet. Resource Locator can help Native American and minority-owned firms identify trade associations representing their industries, government licensing and permit offices, management and technical assistance providers, and a host of other resources quickly and efficiently.

• Capital Locator—an Internet-based tool that allows NABDC consultants to inquire about, identify and locate potential financiers nearest them. This tool shall provide basic financing criteria for each identified capital resource. The tool is designed to give users the benefit of a nationwide market for identifying financing needs and products.

• Business and Market Planning—a software package designed to streamline and enhance the development of business plans, marketing plans and other strategic business documents.

• Business Analyst GIS—a software operated at an individual computer workstation that provides strategic business data through geographic-based information system. This software will be awarded to select NABDCs, based on availability of funds and competition.

These electronic tools will help streamline the process of delivering client assistance to Native American and other minority business enterprises, free up time so that the NABDC can implement MBDA's strategic goals and generate critical outcomes as described under the heading Performance Measures.

In addition, MBDA strongly encourages the NABDC to use these electronic tools daily because of the significant value they add to the NABDC and to Native American and other minority businesses. These tools are designed to reinforce the standardization of services received throughout the MBDA extended networks.

Work Requirements

The work requirements specify the duties and responsibilities of each recipient operating a NABDC.

Although it is not necessary for the applicant to have an office in the geographic service area at the time of application, one must be opened and be fully operational within thirty (30) days after receipt of the award. Fully operational means that all staff are hired, all signs are up, all items of furniture and equipment (e.g., hardware, software, Internet services, phones, faxes, etc.) are in place, and the NABDC's doors have been fully opened to the public for service

The NABDC must be accessible to disabled persons and strategically located in the geographic service area (as defined in this Notice) to ensure that it is: (1) Close to the available public and private sector resources, and (2) within a reasonable commuting distance to the Native American business community.

The NABDC operator must provide services to eligible clients within its specified geographic service area. Each NABDC operator must contribute its efforts to help support MBDA's online business assistance network as established by Agency policies.

All NABDC consultants and its project director shall be required to attend a one-time five (5) day mandatory training session on “Implementing a System for High-Quality Service.” This training will be held three (3) times during the first year of program operation; in the east, in the west, and in the middle of the country (exact locations and dates will be announced). The training sessions may be conducted in the second and third year of operation based on availability of funding. The costs of tuition, materials, conference facilities and amenities for the training program will be covered by MBDA. However, the NABDC shall budget lodging, food and travel expenditures for its attending staff. The program will be conducted approximately forty-five (45) days after receipt of the award. The training shall focus on:

• Orientation to the MBDA strategy;

• Instilling the entrepreneurial mindset;

• Standardization of client intake services; and

• Skills and information needed to provide high-quality services to emerging firms.

Successful completion of this program, which involves a competency examination, will result in certification of the NABDC staff member by MBDA. In the event that one or more NABDC staff members should fail the competency examination, the NABDC shall lose two (2) points from the assessment score during the evaluation of the project. This training may be provided a second time by the MBDA after mid-year review. The second training session will require the attendance of NABDC staff not previously trained, and/or those who failed to successfully complete the initial training program.

In addition to the initial training, the NABDC is required to have one staff member attend a one-time five (5) day advanced program, held in a Midwest location during the second quarter of 2004. This training session will teach NABDC staff how to transform high-potential minority businesses and put them on a high-growth trajectory. The purpose of this program is to ensure that at least one staff member in each NABDC will have the skills to nurture the growth of clients to become larger companies, thereby helping to fulfill MBDA's strategic priority. Successful completion of this program, which involves a competency examination, will result in certification of the NABDC staff member by MBDA.

The NABDC shall budget for one staff member's lodging, food and travel expenditures, probably to the Chicago area. The costs of tuition, materials, and registration for the advanced training program will be covered by MBDA.

The NABDC is required to perform work in four (4) basic areas. These elements are designed to increase the exposure and visibility of Native American firms and MBEs (as defined in this notice). NABDC efforts in these activities should provide quantifiable results.

1. Market Development—is designed to facilitate the identification of potential clients, methods to solicit potential clients and to identify, develop and leverage public and private sector resources and business opportunities for their clients:

(a) Market Research and Development: Systematically investigate the service area market to see what business and capital opportunities exist for client development, and search for sources of capital, sales opportunities, business buy-outs and new start possibilities. As market research is conducted, the NABDC will make optimum use of the MBDA network to ensure that the information is made available to fellow NABDC operators, and to Native American firms throughout the country.

(b) Market Promotion: Promote Native American business development in the local business community by obtaining support from the community for the utilization of Native American firms.

The NABDC will promote Native American firms to the public and private sectors to build market awareness of the capability, talent and capacity of its clients. The NABDC may utilize public service announcements and paid advertising. The NABDC may promote its clients locally to entities such as: Chambers of Commerce, business and trade associations, corporations and company trade fairs and meetings, state and local government agency purchasing departments, economic development and planning offices and business events.

The NABDC shall carry out a plan-of-action that will include, but is not limited to the following actions: (1) Develop an NABDC brochure for mail-out and distribution to the public; (2) Develop an NABDC program description for inclusion on the MBDA Portal and the NABDC web site; (3) Adhere to MBDA's communication plan (see Operational Quality, item (j) under this section).

The NABDC shall promote and participate in one regional NEC and one national Minority Enterprise Development (MED) Week activities. MED Week is an annual event, coordinated through MBDA that celebrates the success of minority businesses. Participation is defined as follows:

(1) NEC MED Week—This event is held annually in late summer or early fall, in or near the MBDA NEC. It involves full participation and collaboration with the designated MBDA NEC. The NABDC shall participate in MBDA's process of nominating their outstanding clients for various awards. The NABDC may be asked to coordinate/host panel discussions and support its MBDA NEC. At a minimum, travel expenditures for the NABDC's program director and (at least) one staff must be included in the proposal.

(2) National MED Week—This event is held annually in the fall in Washington, DC. It shall require at a minimum, travel expenditures for the NABDC's project director and (at least) one staff. During the 2004 National MED Week program, optional training in accounting and finance will be offered to NABDC staff. There will be no charge for tuition or materials. Successful completion of this program, which involves a competency examination, will result in certification of the staff member by MBDA.

(c) Resource Development requires the NABDC to identify and electronically record on the MBDA Portal likely sources of the following:

(1) Market Opportunities—e.g., public (Federal, state and local government) and private (domestic and foreign) sector contracting opportunities;

(2) Capital Resources—e.g., standard commercial and alternative debt (loans, lines of credit, etc.), equity (venture capital, angel, etc.), and mezzanine (near equity, subordinated debt, etc.) financing, bonds (performance and surety), and trade credit opportunities;

(3) Business Ownership Opportunities—e.g., franchises, licensing arrangements, mergers and buy-outs;

(4) Education and Training Resources—e.g., educational institution programs and other training resources; and,

(5) Registration of MBEs—e.g., register eligible local Native American firms in MBDA's Phoenix system, which is a national electronic inventory of minority firms capable of selling their goods and services to the public and private sector. The identified and recorded resources shall be verified by MBDA prior to publishing on the MBDA Portal.

(d) Develop and Maintain a Network of Strategic Partners and Intra-Strategic Relationships—The work requirements for an award recipient under the NABDC Program include the development of key networks. The purpose for establishing strategic partners is to: assist the NABDC to achieve its goals for assisting Native American and minority businesses (as defined in this solicitation, see Performance Measures); synchronize outreach efforts between the NABDC and MBDA; and, foster collaboration among the MBDA funded network as established under the terms of the award. Each Strategic Partnership shall be documented by a written Memorandum of Understanding (MOU) that shall document the terms and conditions of the partnership. The terms and conditions should assist the NABDC in achieving its goals for assisting MBEs.

A minimum of five (5) strategic partners between the NABDC and key local entities selected by the recipient must be established within one hundred-twenty (120) days after receipt of the award. The NABDC is required to maintain these partnerships throughout the life of the award. The NABDC must replace a Strategic Partner within forty-five (45) days after termination of a previously established partnership. The NABDC shall consult with its MBDA National Enterprise Center prior to completing the MOU. The MBDA shall have no relationship with or responsibility to the NABDC's Strategic Partners.

The Strategic Partners shall be public or private sector organizations located within the project's geographic service area. Strategic Partners may include:

• Native American and Minority Business Enterprise (MBE) programs operated by state, county or city governments;

• Chambers of Commerce or trade associations focused on the needs of the minority business community;

• Small Business Development Centers, or other college and university entrepreneurial development programs;

• Community Development Corporations (CDCs);

• Banks and financial institutions; and

• Faith-based organizations having economic development components, whose activities are not used for sectarian purposes.

Also, the NABDC shall establish Intra-Strategic Relationships with other MBDA funded programs in support of their goals for assisting Native American businesses as defined under the terms of the award. The NABDC is required to meet with other MBDA-funded programs in the NEC (in person or by phone conference) at quarterly meetings conducted by MBDA staff. The NABDC is encouraged to refer and/or accept clients from these Relationships. The Intra-Strategic Partnerships shall not be counted towards the NABDC goal of obtaining Strategic Partnerships as described above.

(e) Facilitate Matches which identify and refer eligible Native American and minority business enterprises with specific viable businesses, market and/or capital opportunities.

This function contributes to a NABDC's financing and/or procurement performance goals, and is the only NABDC market development function outside of the standard client business assistance in which a portion of a NABDC's time can be directly associated to individual clients and resource customers. This client specific time, no matter how small, is considered client assistance and may be subject to client fees. Under this function, the NABDC shall match qualified Native American entrepreneurs with identified opportunities and resources by: (1) Accessing vendor information systems, including the Phoenix/Opportunity system; (2) Providing follow-up communication to Phoenix-registered clients that receive Opportunity matches within the NABDC geographic area; (3) Maintaining a constant awareness of the Native American firms that operate within the geographic service area and their capabilities; (4) Maintaining direct contact with purchasing executives, government procurement officials, banking officials and others so that representatives of the NABDC are in a position to learn about available business opportunities, both formally and informally; (5) Engaging in relationship brokering between purchasing organizations and individual clients capable of fulfilling their requirements; and, (6) Assisting in direct negotiations between purchasing organizations and individual clients, in appropriate cases, in order to help resolve issues, serve as an advocate for the client firm, or otherwise assist in bringing the transaction to closure.

2. Client Services—Provides direct client assistance to Native American and minority business enterprises on the basis of individualized professional engagements. Under these duties, the NABDC shall assist clients and individuals, which have written agreements to become clients, in establishing, improving and/or successfully maintaining their businesses. All new clients shall be entered into the Performance system and registered in the Phoenix system. The NABDC is required to enter clients and service hours into the Performance system within seventy-two (72) hours from the time of service. Clients assisted more than once during the funding period may only be counted once in that funding period.

The NABDC shall operate a systems-integrated approach (as described below) to assist in Native American and minority business growth and development.

A systems-integrated approach—which is defined as a customer-based service model supported by the following functions:

• Strategy—e.g., plans for achieving sustainable competitive advantage and creating customer value

• Processes—e.g., efficient, effective ways of manufacturing products or delivering services

• Architecture—e.g., organizational and value chain (outsourcing) structure to implement the strategy and key processes

• Resources—e.g., the acquisition and management of financial, human, and technical assets

• Systems—e.g., mechanisms for control and communication, including management information systems (MIS)

• Empowerment—e.g., delegation in a way that encourages staff to pursue strategic initiatives and continuous improvement.

The NABDC shall be responsible for providing business consulting to MBEs based on these principles. Business consulting services are (as defined under this section) provided by the NABDC to eligible Native American, minority-owned firms and individuals (as referenced in Executive Orders 11625 and 12432) seeking assistance from the NABDC, including 8(a) certified and graduate firms. These client services are segments to the systems-integrated approach. They are designed to assist client firms to bridge operational and strategic gaps. They cannot provide long-term business viability without aligning all aspects of the business and its environment. Client services include, but are not limited to, the following types of assistance:

(a) Client Assessment—Provides the NABDC client with a fundamental business evaluation. This process is designed to standardize services and to facilitate the client referral process among the MBDA funded network. It requires an interview to be conducted between client and NABDC consultant. This service is designed to provide—

• Background and contact information on the client;

• Client business analysis with respect to its core competency, organizational structure, market and industry placement, production of products/delivery of services, marketing plan, resources and financial viability;

• Analysis and benchmarking of the client;

• Development of an intervention plan utilizing a systems-integrated approach (as defined under Client Services) & client report; and,

• Identification of resources and referrals.

(b) Functional Assistance—Provides the NABDC client with detailed business consulting services including but not limited to:

(1) Marketing, e.g., market research, promotion, advertising and sales, sales forecasting, market feasibility studies, pricing, product and customer service, brochure design (excludes mass printing);

(2) Financial Management, e.g., capital budgeting, general accounting, break-even analysis, cost accounting, financial planning and analysis budgeting, tax planning, business consulting (excludes bookkeeping, tax preparation, and audits);

(3) Financial Assistance, e.g., identification, preparation and packaging of standard commercial and alternative debt (loans, lines of credit, etc.), equity (venture capital, angel, etc.), and mezzanine (near equity, subordinated debt, etc.) financing and trade credit opportunities;

(4) Procurement Assistance, e.g., preparation and planning for the identification of private and public-sector contracting opportunities;

(5) Operations & Quality Management, e.g.,

• Manufacturing—plant location and site selection, plant management, materials handling and distribution, total quality management, metrication for world market, and business consulting;

• Construction—estimating, bid preparation, bonding, take-offs, and business consulting;

• International Trade Assistance—exporting, importing, letters of credit, bank draft, dealerships, agencies, distributorship, exporting trading companies, joint ventures, business consulting, and freight forwarding and handling;

• Specialized Certification—ISO 9000 knowledge of program and standards, how to implement standards, how to report and properly apply for ISO 9000 Quality Systems certification;

• Total Quality Management—process engineering, inventory control, purchasing, continuous improvement programs;

• Technology & Systems—automation design, development and integration of technology to support infrastructure, knowledge management, data mining, performance based reporting;

(6) Organization & Administration, e.g., human resource management, job evaluation and rating system, employee stock option programs, training, business consulting; and,

(7) General Management, e.g., organization and structure, formulating corporate policy, feasibility studies, reports and controls, public relations, staff scheduling, legal services (excludes litigation), business planning, organizational development, bid preparation, and business consulting.

The NABDC shall not perform or engage in the day-to-day operations or make decisions for its clients.

Group training sessions are considered a form of business development services that can be provided to clients. This function may be subject to client fees and directly contributes to an NABDC's performance goals.

3. Operational Quality—Maintains the efficiency and effectiveness of its overall operations as well as the quality of its client services. These duties are the means by which the NABDC manages its overall operations as well as the quality of its client services. The function directly contributes to the NABDC's overall qualitative evaluation and rating as well as the successful completion of all work requirements. Under this function, the NABDC shall: (a) Execute signed work plan agreements and engagement letters with clients; (b) Formally describe the methodology that will be used in achieving the work plan objectives for each client; (c) Input progress/results to the performance database within seventy-two (72) hours from the time of service; (d) Establish procedures for collecting and accounting for all fees charged to clients; (e) Maintain records/files for all work charged to the program and clients; (f) Obtain written acceptance and verification (with client signatures) of services provided to its clients and any financings/contracts obtained. For services reported, documentation must be in the NABDC's client files within thirty (30) days after the end of every quarter in which a client receives services; (g) Comply with all reporting requirements provided upon award; (h) Cooperate with MBDA in maintaining content for the Phoenix/Opportunity system, Resource Locator, and other online tools located at http://www.mbda.gov; and, (i) Promote and utilize the services and resources of other MBDA programs, sponsored efforts and/or voluntary activities. (j) The NABDC shall adhere to MBDA's trademark and licensing requirements for all forms of communication including but not limited to signage, stationary and other NABDC-related publications. Such requirements shall be provided at the time of award. These requirements include but are not limited to specific size, location, and font of the MBDA logo.

• Signage—Signs should be highly visible to the NABDC clients and general public. They should be prominently displayed on entrances or doors.

• Printed Materials—These items shall include the name of MBDA on all stationery, letterhead, brochures, etc.

• Telephonic Communication—Identify the NABDC immediately upon answering the telephone. If the recipient also requires that its organization's name be given, it should be provided only after the NABDC has been verbally identified to a caller. Refer to MBDA in all advocacy and outreach efforts such as speaking engagements, news conferences, etc.

The NABDC is not authorized to use either the Department of Commerce's (DOC) official seal or the MBDA logo in any of its publications, documents or materials without specific written approval from the Department of Commerce.

The term Native American Business Development Center (NABDC) is a trademark of the Federal Government, and the Government reserves exclusive rights in the term. Permission to use the term is granted to the award recipient for the sole purpose of representing the activities of the award recipient in the fulfillment of the terms of the financial assistance award. The Minority Business Development Agency reserves the right to control the quality of the use of the term by the award recipient. Whenever possible, for example in promotional literature and stationery, use the ™ designation as in Native American Business Development Center™.

Computer Requirements

MBDA requires that all award recipients meet certain requirements related to the acquisition, installation, configuration, maintenance and security of information technology (IT) assets in order to ensure seamless and productive interface between and among all grant recipients, Native American and other minority-owned businesses, the MBDA Federal IT system and the public. These required assets and their configuration are hereinafter referred to as the “enterprise.” The basic components of the enterprise are the desktop workstations, the server, local area network (LAN) components and a connection to the Internet.

At a minimum, each grantee shall provide one (1) desktop computer for the exclusive use of each employee delivering minority business assistance to the public under an award from MBDA. All desktop computers shall be inter-connected with a Server computer using an Ethernet protocol enabling communication with all workstations on the network. The Server shall have a constant, high-speed Internet connection, active during all business hours, preferably through a DSL or cable modem connection. The recipient shall ensure that each of his/her employees, to include management, administrative personnel, contractors, full-time, part-time, and non-paid (volunteer) staff have a unique electronic mail (email) address available to the public. Each grantee shall design, develop and maintain, in accordance with the computer requirements, a presence on the Internet's World Wide Web and shall maintain appropriate computer and network security precautions during all periods of funding by MBDA. All IT requirements, as described herein, shall be met within thirty (30) calendar days after the award.

1. Network Design: At all locations where services are delivered to the eligible public as defined by Executive Order 11625, the recipient shall operate a “Client-Server” configured local area network (LAN) enabling each staff person delivering services to the eligible public exclusive access to a personal computer workstation during all business hours. MBDA shall, from time to time, designate certain configurations of the enterprise hardware and software to meet interface requirements.

Currently, MBDA recommends servers using an operating system that is fully compatible with Microsoft Windows 2000 with a service pack three (3) or greater. Domain Controller (DC) servers or any server providing principal service to the desktops shall contain 18 or more gigabytes (GB) of hard drive space using two or more 9 GB+ disks configured appropriately to ensure data retention should one disk fail. At least one (1) Pentium IV central processing unit (CPU), or a CPU ensuring similar speed, shall be used in the DC server or any other server providing principal service to the desktops. Web servers, mail servers and/or servers maintained by a third party such as an Internet Service Provider (ISP) shall meet the minimum server specifications as stated herein. A “trusted” relationship, as appropriate, shall be established and maintained between the MBDA DC server and those operated by, or operated for, the recipient to ensure access by MBDA system administration personnel during normal business hours. (In a network that consists of two or more domains, each domain acts as a separate network with its own accounts database. Even in the most rigidly stratified organizations, some users in one domain will need to use some or all of the resources in another domain. The usual solution to confirming user access levels among domains is what's called a trust relationship.) From time to time, MBDA will require access to servers and desktop workstations after business hours and on holidays and weekends. For this purpose, the recipient shall ensure appropriate communications links are active and appropriate personnel on station, upon 24-hour notice from MBDA.

2. Desktop Workstations: All desktop systems shall not be more than two (2) calendar years old at time of award and shall contain a Pentium IV central processing unit (CPU), or a CPU ensuring similar speed, operating at speeds not less than 2+ Gigahertz (GHz). Each desktop system shall contain a hard drive with a storage capacity of at least twenty (20) GB and 512 Megabytes of RAM. All desktop systems shall have installed an operating system fully compatible with Microsoft Windows 2000 with MS Office 2000 Professional (SP1) or higher, Microsoft Internet Explorer 6.x as well as some form of regularly updated antivirus protection software. Additionally, it is suggested that at least one workstation have installed both a full page scanner and feed, along with software fully compatible with Adobe Acrobat software for the production of electronic document submissions.

Since workstations may be linked to a live, two-way conference connection with potential clients, at least 50% of all employee workstations shall be fully operational with a qualified staff person positioned at the keyboard during all business hours to include lunch and break periods.

3. Maintenance and Security: A network map (“as-built”) reflecting adherence to the computer and networking requirements set forth herein shall be maintained by the recipient for review by MBDA at any time. Each recipient shall designate and train one administrative person competent in the operation of an operations system fully compatible with Windows 2000 network and local area network (LAN) technology as described herein. If a firewall, proxy server or similar security component is used, MBDA's server shall be “trusted” for full access to all files relevant for network and administrative operations. From time to time, MBDA may require certain software be loaded on servers and desktops. In any given year, the cost of this additional software may be $200.00 per workstation and $500.00 per server, such additional cost may be borne by MBDA. Every employee of the NABDC shall be assigned a unique username and password to access the system. Every employee shall be required to sign a written computer security agreement. (A suggested format for the computer security agreement will be provided at the time of award.) Every manager, employee, and contractor and any other person given access to the computer system shall sign the security agreement and an original copy of the signed agreement shall be kept in the NABDC's files. A photocopy of the agreement shall be sent by fax to MBDA at: (202) 482-2693 no later than thirty (30) days after receipt of the award. All subsequent new hires and associations requiring access to the NABDC or MBDA systems shall read, understand and sign the security agreement prior to issuance of a password. No employee shall have access to the MBDA system without a signed security agreement on file at MBDA.

4. Web site: Each recipient shall create and maintain a public web site using a unique address (e.g., http://www.center-name.com). The first page (Index page) of the web site shall clearly identify the recipient as a Native American Business Development Center funded by the U.S. Department of Commerce's Minority Business Development Agency. The Index page of the web site shall load on software fully compatible with Windows Internet Explorer 6.x browser software using a normal home computer with 56Kb/s analog phone line connection in less than ten (10) seconds. The web site shall contain the names of all managers and employees, the business and mailing address of the Center, business phone and fax numbers and email addresses of the NABDC and employees, a statement referencing the services available at the NABDC, the hours under which the NABDC operates and a link to the MBDA homepage (http://www.mbda.gov). For purpose of electronically directing clients to the appropriate NABDC staff, the web site shall also contain a short biographical statement for each employee of the NABDC including management, contractors, part-time, full-time, and non-paid (volunteer) personnel, providing services directly to the eligible public under an award from MBDA. This biographical statement shall contain: the full name of the employee, and a brief description of the expertise of the employee to include academic degrees, certifications and any other pertinent information with respect to that employee's qualifications to deliver minority business assistance services to eligible members of the public.

No third party advertising of commercial goods and services shall be permitted on the site. All links from the site to other than federal, state or local government agencies and non-profit educational institutions must be requested, in advance and in writing, through the Chief Information Officer, MBDA Office of Information Technology Services to the Grants Office for written approval. Such approval shall not be unreasonably withheld but approval is subject to withdrawal if MBDA determines the linked site unsuitable. No employee of the NABDC, nor any other person, shall use the NABDC web site for any purpose other than that approved under the terms of the agreement between the recipient and MBDA. Every page of the web site shall comply with Federal standards of the American With Disabilities Act, Section 508, and be reviewed by the recipient for accuracy, current, and appropriateness every three (3) months. Appropriate privacy notices and handicapped accessibility will be predominately featured. From time to time, MBDA shall audit the recipient's web site and recommend changes in accordance with the guidelines set forth herein.

5. Time for Compliance: Within thirty (30) days after receipt of the award, the recipient shall report via email to the Chief Information Officer, MBDA Office of Information Technology Services and the MBDA Office of Business Development that he/she has complied with all technical requirements as specified herein. Within thirty (30) days after receipt of the award, the recipient shall report the name, contact telephone number and email address of the Project Director, Network or System Administrator. As appropriate, the recipient shall also provide the telephone number and email address for the Technical Contact at the Internet Service Provider (ISP) providing Internet access for the grantee, the IP number of the Domain Name Server (DNS) and/or Domain Control (DC) server, and any other technical information as specified in the Technology Requirements.

6. Performance System: All required performance reporting to MBDA shall be conducted via the Internet using the Performance system to be found at a secure web site (http://www.mbda.gov). Within thirty (30) days after the receipt of award, each NABDC business consultant and/or anyone providing business assistance to the public under the award shall have satisfactorily completed the Performance System Training Course (PSTC). This course is available on-line from the Performance web site (www.mbda.gov). Only those persons giving direct assistance to the eligible public shall be given passwords and access to enter Performance data into the system. Only trained staff shall enter data into the Performance system. There shall be no “sharing” of passwords on the Performance system. MBDA encourages input of information on a daily basis.

7. Data Integrity: The recipient shall take the necessary steps to ensure that all data entered into MBDA systems, and systems operated by the recipient in support of the award, or by any employee of the recipient is accurate and timely.

Performance Measures

In accordance with 15 CFR Parts 14 and 24, applicants selected will be responsible for the effective management of all functions and activities supported by the financial assistance award. Award recipients will be required to use program performance measures in a performance report due thirty (30) days after the end of the second quarter and to provide an end-of-year assessment of the accomplishments of the project using these measures. The end-of-year or final performance report is due ninety (90) days after the end of the funding year. Once the project is awarded, the evaluation criteria, along with the assigned weight value, to be used for measuring the MBDC project performance on an ongoing basis are:

1. The dollar value of transactions (65);

2. Number of jobs created (10);

3. Number of new clients (5);

4. Administrative Management & Operational Quality (20);

• Client satisfaction (5);

• Management assessment (5);

• Market promotion (1);

• Resource entries (5);

• Establish strategic partners (2);

• Facilitate matches (2).

The minimum performance goals required for the above listed performance measures for each of the solicited geographic service areas are outlined under the Funding Availability sub-heading for each geographic service area. The minimum performance goals are listed on an annual basis by MBDA and will be broken out into quarterly increments by the applicant and submitted as part of their proposal.

The NABDC is required to utilize, in a good faith effort, all of its resources to achieve the stated goals. Should the NABDC exceed its performance requirements prior to the end of a funding year, the NABDC is expected to maintain operations at full strength and continue to provide services and reach greater performance outcomes. MBDA views the NABDC as a designated cooperative partner and an envoy to the greater Native American business community. Thus, high achievement in one performance measure cannot excuse failure to reach other goals as stated in this Notice.

Definitions

1. Dollar Value of Transactions—The dollar value of transactions are defined as:

(a) Dollar Value of Completed Financial Transactions which represent the total principal value of approved loans, equity financings, bonds, or other binding financial agreements secured by clients of the project, with the assistance of NABDC staff. For purposes of this performance element, eligible financial transactions are those which have a specific dollar value, and which expand its capital base/operations, or produce some other direct commercial benefit for client firms. In order to be deemed complete, a financial transaction must be documented by an executed and binding agreement between the NABDC client (firm) and a party (financier) capable of performing its obligations under the terms of the agreement.

(b) Dollar Value of Gross Receipts which represent the total dollar value of successfully awarded contracts and/or the total principal value of executed sales/delivery contracts of services/products/intellectual rights and/or increase in sales and/or completed Mergers and Acquisitions or other binding financial considerations secured by clients of the project, with the assistance of project staff. For purposes of this performance element, Dollar Value of Gross Receipts are those transactions which have a specific dollar value, and which produce some other direct commercial benefit for client firms. In order to be deemed complete, successfully awarded contracts or mergers and acquisitions must be documented by an executed and binding agreement between the client firm and a party capable of performing its obligations under the terms of the agreement. Increase in sales must be documented through an initial, a midyear and a year-end client assessment (see Client Assessment under the heading Client Services) supported by client submitted financial documentation.

MBDA recognizes that the financial obligations evidenced by these transactions may be long-term, and require performance over an extended period. Consequently it is not necessary that the funds or other financial value specified under the agreements have actually changed hands for the project to receive credit under this performance element, so long as the agreement of the parties is documented and binding.

2. Number of Jobs Created—This is defined as the number of new full time and/or part time employment opportunities reported on the client's payroll during the funding year. Persons on paid sick leave, paid holiday and paid vacations are included as employees as are salaried officers and executives of corporations. However, proprietors and partners of unincorporated businesses are not considered employees under this definition.

3. Number of New Clients—This represents the actual number of new clients in a funding year. New clients are defined as those Native American and other minority business enterprises that complete a written engagement with the NABDC for specific services and registered with the NABDC.

4. Administrative Management & Operational Quality—Operational quality refers to the quality and effectiveness of the project operator's delivery of client services and project scope, as evidenced by the following performance elements relating to the day-to-day management of the project:

a. Client Satisfaction—An MBDA consultation process with clients of the NABDC used to verify and rate the qualitative level of services rendered by the NABDC.

b. Management Assessment—The management assessment reflects MBDA's own evaluation of the overall management of the NABDC project, based on the Agency's internal review of the project's operations. The management assessment reflects such areas as the development of written engagement letters and work plans, proper staffing, adherence to scheduled work hours, recordkeeping, successful completion of Agency training, and any other areas which MBDA may deem to be relevant in determining the overall quality of the project's operations.

c. Market Promotion—This represents the total number of successfully completed activities (per reporting period) as proposed in the applicant's response to this notice.

d. Resource Entries—This is defined as the total quantity of accurate and timely records entered into MBDA's Portal tools (e.g., Phoenix, Opportunity, Capital Locator, Resource Locator, etc.) in support of its efforts to disseminate information electronically.

e. Establish Strategic Partners—This represents formalized memoranda of understanding between the NABDC and its strategic partners.

f. Facilitated Matches—This represents the number of minority firms directed by the NABDC to strategic partners, the MBDA funded network, and other business resources that result in a financial transaction (as described above under Dollar Value of Transactions).

Extraordinary Performance—Support of MBDA's Strategic Initiative

An element of MBDA's overall mission is to advocate on behalf of all Native American and minority firms. In part, MBDA recognizes successful efforts of NABDC operators to establish new opportunities for all Native American and minority firms. Extraordinary performance by a NABDC or the NABDC operator may result in bonus points for the NABDC. The NABDC may receive up to five (5) performance bonus points (one (1) point for each fully completed initiative as defined below) in any funding period for the successful execution of the following four items:

(a) The NABDC and/or the NABDC operator may develop and maintain a maximum of five (5) strategic initiatives designed to benefit the Native American and minority business community within the NABDC geographic area.

(b) The strategic initiative(s) should be framed to expand market and financing opportunities for Native American and minority business enterprises in areas not previously established by MBDA or the MBDA funded network.

(c) A desired and measurable economic impact that benefits Native American and minority business enterprises must be established and accounted for at the end of the NABDC funding year. Economic impact can be formulated by identifying the dollar value of transactions (financings, contracts/procurements) and/or other means of economic opportunities.

(d) The strategic initiative(s) should be documented in writing and should include

—the name(s) and contact information of the collaborating entities;

—responsibilities and duties of the collaborating entities;

—the resources which each party agrees to commit to the relationship; and

—the goals which the initiative is to accomplish.

Performance Standards

The year-to-date performance of an NABDC for Year One of the award will be based on the following rating system:

Minimum required percent of goals needed for each rating category | Minimum required points needed for each rating category | Rating categories
100% and above* | 100** and above | Outstanding
At least 90 | 90-99 | Commendable
At least 80 | 80-89 | Good
At least 75 | 75-79 | Satisfactory
Below 75 | Below 75 | Unsatisfactory
*Not to exceed 110%
**Not to exceed 110 Points

The year-to-date performance of an NABDC for Year Two of the award will be based on the following rating system:

Minimum required percent of goals needed for each rating category | Minimum required points needed for each rating category | Rating categories
100% and above* | 100** and above | Outstanding
At least 90 | 90-99 | Commendable
At least 80 | 80-89 | Good
At least 77 | 77-79 | Satisfactory
Below 77. | Below 77 | Unsatisfactory
*Not to exceed 110%
**Not to exceed 110 Points

The year-to-date performance of an NABDC for Year Three of the award will be based on the following rating system:

Minimum required percent of goals needed for each rating category | Minimum required points needed for each rating category | Rating categories
100% and above* | 100** and above | Outstanding
At least 90 | 90-99 | Commendable
At least 85 | 85-89 | Good
At least 80 | 80-84 | Satisfactory
Below 80 | Below 80 | Unsatisfactory
*Not to exceed 110%
**Not to exceed 110 Points

Funding Availability

MBDA anticipates that a total of approximately $1.6 million will be available in FY 2004 for Federal assistance under this program. Applicants are hereby given notice that funds have not yet been appropriated for this program. In no event will MBDA or the Department of Commerce be responsible for proposal preparation costs if this program fails to receive funding or is canceled because of other agency priorities.

Financial assistance awards under this program may range from $155,000 to $287,500 in Federal funding per year based upon minority population, the size of the market and its need for MBDA resources. Applicants must submit project plans and budgets for each of the three years. Projects will be funded for no more than one year at a time. Funding for subsequent years will be at the sole discretion of the Department of Commerce and will depend on satisfactory performance by the recipient, the availability of funds to support the continuation of the project and Agency priorities.

Geographic Service Areas

An operator must provide services to eligible clients within its specified geographic service area. MBDA has defined the service area for each award below. To determine its geographic service areas, MBDA uses States, counties, Metropolitan Areas (MA), which comprise metropolitan statistical areas (MSA), consolidated metropolitan statistical areas (CMSA), and primary metropolitan statistical areas (PMSA) as defined by the OMB Committee on MAs (http://www.whitehouse.gov/omb/bulletins), and other demographic boundaries as specified herein. Services to eligible clients outside of an operator's specified service area may be requested, on a case-by-case basis, through the appropriate MBDA Regional Director and granted by the Grants Officer.

1. NABDC Application: North Carolina/Cherokee/Ashville

Geographic Service Area: Cherokee/Ashville, North Carolina MA.

Award Number: 04-10-04005-01.

The recipient is required to maintain the primary NABDC on the Cherokee reservation and a satellite office in the Ashville, North Carolina MA.

Contingent upon the availability of Federal funds, the cost of performance for each of three 12-month funding periods from January 1, 2004, to December 31, 2006, is estimated at $188,000. The total Federal amount is $188,000.

The minimum cost share of 15% is not required.

The minimum performance goals for the MBDC are:

Dollar Value of Transactions: $13,976,471.

Number of Jobs Created: 64.

Number of New Clients: 146.

Resource Entries: 285.

Facilitated Matches: 7.

Pre-Application Conference: For the exact date, time and place, contact the Atlanta National Enterprise Center at (404) 730-3300 or visit MBDA's website at http://www.mbda.gov.

For Further Information and a copy of the application kit, contact Robert Henderson, Regional Director.

2. NABDC Application: Minnesota Statewide

Geographic Service Area: State of Minnesota.

Award Number: 05-10-04004-01

The recipient is required to maintain its NABDC in Cass Lake, Minnesota.

Contingent upon the availability of Federal funds, the cost of performance for each of three 12-month funding periods from January 1, 2004, to December 31, 2006, is estimated at $160,000. The total Federal amount is $160,000.

The minimum cost share of 15% is not required.

The minimum performance goals for the NABDC are:

Dollar Value of Transactions: $12,000,000.

Number of Jobs Created: 55.

Number of New Clients: 125.

Resource Entries: 243.

Facilitated Matches: 6.

Pre-Application Conference: For the exact date, time and place, contact the Chicago National Enterprise Center at (312) 353-0182 or visit MBDA's website at http://www.mbda.gov.

For Further Information and a copy of the application kit, contact Carlos Guzman, Acting Regional Director.

3. NABDC Application: New Mexico Statewide

Geographic Service Area: State of New Mexico.

Award Number: 06-10-04005-01.

The recipient is required to maintain its NABDC in Albuquerque, New Mexico. Contingent upon the availability of Federal funds, the cost of performance for each of three 12-month funding periods from January 1, 2004, to December 31, 2006, is estimated at $188,000. The total Federal amount is $188,000.

The minimum cost share of 15% is not required.

The minimum performance goals for the NABDC are:

Dollar Value of Transactions: $13,976,471.

Number of Jobs Created: 64.

Number of New Clients: 146.

Resource Entries: 285.

Facilitated Matches: 7.

Pre-Application Conference: For the exact date, time and place, contact the Dallas National Enterprise Center at (214) 767-8001 or visit MBDA's website at http://www.mbda.gov.

For Further Information and a copy of the application kit, contact John F. Iglehart, Regional Director.

4. NABDC Application: Oklahoma Statewide

Geographic Service Area: State of Oklahoma.

Award Number: 06-10-04007-01.

The recipient is required to maintain its NABDC in Tulsa, Oklahoma. Contingent upon the availability of Federal funds, the cost of performance for each of three 12-month funding periods from January 1, 2004 to December 31, 2006, is estimated at $235,000. The total Federal amount is $235,000.

The minimum cost share of 15% is not required.

The minimum performance goals for the NABDC are:

Dollar Value of Transactions: $20,117,647.

Number of Jobs Created: 93.

Number of New Clients: 210.

Resource Entries: 356.

Facilitated Matches: 11.

Pre-Application Conference: For the exact date, time and place, contact the Dallas National Enterprise Center at (214) 767-8001 or visit MBDA's website at http://www.mbda.gov.

For Further Information and a copy of the application kit, contact John F. Iglehart, Regional Director.

5. NABDC Application: North/South Dakota Statewide

Geographic Service Area: States of North and South Dakota.

Award Number: 06-10-04006-01.

The recipient is required to maintain its NABDC in Bismarck, North Dakota. Contingent upon the availability of Federal funds, the cost of performance for each of three 12-month funding periods from January 1, 2004 to December 31, 2006, is estimated at $155,000. The total Federal amount is $155,000.

The minimum cost share of 15% is not required.

The minimum performance goals for the NABDC are:

Dollar Value of Transactions: $12,000,000.

Number of Jobs Created: 55.

Number of New Clients: 125.

Resource Entries: 235.

Facilitated Matches: 6.

Pre-Application Conference: For the exact date, time and place, contact the Dallas National Enterprise Center at (214) 767-8001 or visit MBDA's website at http://www.mbda.gov.

For Further Information and a copy of the application kit, contact John F. Iglehart, Regional Director.

6. NABDC Application: Arizona Statewide

Geographic Service Area: State of Arizona.

Award Number: 09-10-04007-01.

The recipient is required to maintain its NABDC in Mesa, Arizona. Contingent upon the availability of Federal funds, the cost of performance for each of three 12-month funding periods from January 1, 2004 to December 31, 2006, is estimated at $188,000. The total Federal amount is $180,000.

The minimum cost share of 15% is not required.

The minimum performance goals for the NABDC are:

Dollar Value of Transactions: $13,411,765.

Number of Jobs Created: 62.

Number of New Clients: 140.

Resource Entries: 273.

Facilitated Matches: 7.

Pre-Application Conference: For the exact date, time and place, contact the San Francisco National Enterprise Center at (415) 744-3001 or visit MBDA's website at http://www.mbda.gov.

For Further Information and a copy of the application kit, contact Linda Marmolejo, Deputy Regional Director.

7. MBDC Application: California Statewide

Geographic Service Area: State of California.

Award Number: 09-10-04008-01.

The recipient is required to maintain its NABDC in greater Los Angeles, California. Contingent upon the availability of Federal funds, the cost of performance for each of three 12-month funding periods from January 1, 2004 to December 31, 2006, is estimated at $287,500. The total Federal amount is $287,500.

The minimum cost share of 15% is not required.

The minimum performance goals for the NABDC are:

Dollar Value of Transactions: $21,176,471.

Number of Jobs Created: 97.

Number of New Clients: 221.

Resource Entries: 436.

Facilitated Matches: 11.

Pre-Application Conference: For the exact date, time and place, contact the San Francisco National Enterprise Center at (415) 744-3001 or visit MBDA's website at http://www.mbda.gov.

For Further Information and a copy of the application kit, contact Linda Marmolejo, Deputy Regional Director.

8. NABDC Application: Northwest

Geographic Service Area: States of Washington, Oregon and Idaho.

Award Number: 09-10-04007-01.

Contingent upon the availability of Federal funds, the cost of performance for each of three 12-month funding periods from January 1, 2004 to December 31, 2006, is estimated at $190,000. The total Federal amount is $190,000.

The minimum cost share of 15% is not required.

The minimum performance goals for the NABDC are:

Dollar Value of Transactions: $14,117,647.

Number of Jobs Created: 65.

Number of New Clients: 147.

Resource Entries: 288.

Facilitated Matches: 7.

Pre-Application Conference: For the exact date, time and place, contact the San Francisco National Enterprise Center at (415) 744-3001 or visit MBDA's website at http://www.mbda.gov.

For Further Information and a copy of the application kit, contact Linda Marmolejo, Deputy Regional Director.

Matching Requirements

It is not required that an applicant for an award to operate an NABDC propose a cost-share contribution. Cost sharing is the portion of the project cost not borne by the Federal Government. However, an applicant may propose a cost-share contribution in any of the following four means or a combination thereof: (1) cash contributions; (2) non-cash applicant contributions; (3) third party in-kind contributions, and (4) client fees.

The NABDC may charge client fees for services rendered. The fees may range from $10 to $60 per hour based on the gross receipts of the client's business ranging from $0 to $5 million and above. The NABDC must comply with the following policy restrictions when charging client service fees: (1) client fees charged for one-on-one assistance must be based on a rate of $100 per hour; (2) the NABDC must set fee rates based on the following chart:

Gross receipts of client | Base rate for services rendered | Percent of cost borne by client | Client fee per hour
$0-99,999 | $100.00 | 10 | $10.00
100,000-299,999 | 100.00 | 20 | 20.00
300,000-999,999 | 100.00 | 30 | 30.00
1 Million-2,999,999 | 100.00 | 40 | 40.00
3 Million-4,999,999 | 100.00 | 50 | 50.00
5 Million and Above | 100.00 | 60 | 60.00

(3) if the NABDC chooses to contribute a cost-share amount, it must contribute cash for uncollected fees that were included as part of the cost sharing contribution committed for this award; (4) if the NABDC chooses to contribute a cost-share amount, client fees applied directly to the award's cost sharing requirement must be used in furtherance of the program objectives; and (5) fees must be charged to all eligible clients, regardless of minority group identification.

Type of Funding Instrument

Financial assistance awards in the form of cooperative agreements will be used to fund this program. MBDA's substantial involvement with recipients will include performing the following duties to further the NABDC's objectives:

Post-Award Conferences

MBDA shall conduct post-award conferences for all new NABDC awards to ensure that each NABDC has a clear understanding of the program and its components. The conference will: (1) Provide an MBDA Directory for Business Resources; (2) orient NABDC program officers; (3) explain program reporting requirements and procedures; (4) identify available resources that can enhance the capabilities of the NABDC; and (5) provide detailed information about MBDA's business and other information systems.

Training

MBDA shall conduct various qualitative training sessions for the NABDC staff. The training sessions are designed (in part) to improve communications, understandings, client service delivery, performance and reporting. The following training sessions are designated for the 2004 funding year:

(1) A systems integrated approach to client services, including client assessment and functional assistance (initial 5-day training), and subsequent advanced training (5-day follow-up training), and

(2) MBDA Portal tools including (but not limited to) Performance, Resource Locator, Capital Locator, Business Plan, Phoenix and Opportunity System. We anticipate that the training will be provided at MBDA's annual National conference.

Networking, Promotion and Information Exchange

MBDA shall provide the following: (1) Access to business information systems, which support the work of the NABDC as described in the Enhancing the NABDCs Through Technology section. This information will be provided by MBDA's Office of Information Technology. The specific information systems and access to them will be provided at the time of the award for a particular NABDC. (2) Sponsor one national and at least one NEC conference. (3) Expand the Phoenix data bank of Native American and minority-owned firms by requiring other MBDA-funded programs to provide additional entries. (4) Promote the exchange of business opportunity information within the MBDA funded system using the Capital Locator, Resource Locator, Phoenix and Opportunity system on the MBDA Portal located at http://www.mbda.gov. (5) Work closely with the NABDC to establish a system in which procurement and contract opportunities can be shared with the network of NABDCs. This system will include opportunities identified throughout the MBDA network using the Phoenix and Opportunity system located at http://www.mbda.gov. (6) Help promote special events to be scheduled at the local community, state and national levels in celebration of MED Week, which occurs annually, and (7) Identify Federal, state and local governments, and private sector market opportunities to the NABDCs using the Capital Locator, Resource Locator, Phoenix and Opportunity system on the MBDA Portal located at http://www.mbda.gov.

Project Monitoring

MBDA will systematically monitor the performance of the NABDC. This monitoring includes regular review of data input to the performance system, assessment of the end of the second quarter progress report, an on-site review of the center's client files to verify NABDC performance, reported assistance and interviews with clients assisted. In consultation with clients of the individual NABDC, MBDA will assess the Center's effectiveness in providing business development services to their respective minority business communities. MBDA will then provide a report of findings and recommendations for improvement as a result of evaluations and monitoring visits. MBDA will also assess the NABDC's performance for the first and third quarters of performance data (as recorded in the Performance System) and provide a written report of findings. MBDA will approve qualifications of key NABDC staff and respond in a timely manner to correspondence requesting MBDA action.

Eligibility Criteria

For-profit entities (including sole-proprietorships, partnerships, and corporations), non-profit organizations, state and local government entities, American Indian Tribes, and educational institutions are eligible to operate NABDCs.

Award Period

The total award period is three (3) years. Funding will be provided annually at the discretion of MBDA and DoC, and will depend upon satisfactory performance by the award recipient, availability of funds to continue the project, and Agency priorities. Project proposals accepted for funding will not compete for funding in subsequent budget periods within the approved award period. Publication of this Notice does not obligate MBDA or DoC to award any specific cooperative agreement or to obligate all or any part of available funds.

Indirect Costs

The total dollar amount of the indirect costs proposed in an application under this program must not exceed the indirect cost rate negotiated and approved by a cognizant Federal agency prior to the proposed effective date of the award or 100 percent of the total proposed direct costs dollar amount in the application, whichever is less.

Proposal Format

The structure of the proposal should contain the following headings and information, in the following order:

I. Table of Contents

II. Program Narrative

a. Applicant Capability—Include a resume setting forth the qualifications of the project director as part of the application, along with a copy of a college transcript, as appropriate. Position descriptions and qualification standards for all staff should be included as part of the application. Applicants must provide a copy of their Articles of Incorporation, by-laws and IRS 501(c)(3) non-profit letter or other evidence of non-profit status.

b. Resources—Include original commitment letters from those resources listed and indicate their willingness to work with the applicant. These resources can include such items as facilities, equipment, voluntary staff time and space, and financial resources. One to two letters of support (with contact information) from prior assisted larger minority firms and community organizations should be included from those resources willing to work with the applicant.

c. Techniques and Methodologies—The applicant's proposal shall include a specific plan-of-action detailing how the work requirements will be met and how those techniques will be implemented. MBDA requires the applicant to provide a quarterly breakdown of the goals.

d. Costs

III. Forms

Note: Pages of the proposal should be numbered consecutively.

Application Forms and Package

One (1) original and two (2) signed copies of the application must consist of: Standard Forms 424, Application for Federal Assistance; 424A, Budget Information-Non-Construction Programs; and 424B, Assurances-Non-Construction Programs, SF-LLL (Rev. 7-97); Department of Commerce forms, CD-436, Applicant for Funding Assistance, CD-511, Certifications Regarding Debarment, Suspension and Other Responsibility matters: Drug-Free Workplace Requirements and Lobbying, CD-512, Certifications Regarding Debarment, Suspension, Ineligibility and Voluntary Exclusion-Lower Tier Covered Transactions and Lobbying. These forms may be obtained by (1) contacting MBDA as described in the FOR FURTHER INFORMATION CONTACT section above; (2) by downloading Standard forms at http://www.whitehouse.gov/omb/grants and Department of Commerce at http://www.doc.gov/forms, or (3) by applying on-line via the World Wide Web at MBDA's web site located at http://www.mbda.gov.

Failure to submit a signed, original SF-424 with the application, or separately in conjunction with submitting a proposal electronically, by the deadline will result in the application being rejected and returned to the applicant. Failure to sign and submit with the application, or separately in conjunction with submitting a proposal electronically, the forms identified above by the deadline will automatically cause an application to lose two (2) points. Failure to submit other documents or information may adversely affect an applicant's overall score. MBDA shall not accept any changes, additions, revisions or deletions to competitive applications after the closing date for receiving applications, except through a formal negotiation process.

Evaluation Criteria

Proposals will be evaluated and applicants will be selected based on the following criteria. An application must receive at least 70% of the total points available for each evaluation criterion, in order for the application to be considered for funding.

1. Applicant Capability (45 points)

The applicant's proposal will be evaluated with respect to the applicant firm's experience and expertise in providing the work requirements listed. Specifically, the proposals will be evaluated as follows:

• Native American Community—experience in and knowledge of the minority business sector and strategies for enhancing its growth and expansion (5 points);

• Business Consulting—experience in and knowledge of business consulting of Native American and minority firms (10 points);

• Financing—experience in and knowledge of the preparation and formulation of successful financial transactions (5 points);

• Procurements and Contracting—experience in and knowledge of the public and private sector contracting opportunities for Native American and minority businesses (5 points);

• Financing Networks—resources and professional relationships within the corporate, banking and investment community that may be beneficial to Native American and minority-owned firms (5 points);

• Native American Advocacy—experience and expertise in advocating on behalf of minority businesses, both as to specific transactions in which a Native American business seeks to engage, and as to broad market advocacy for the benefit of the Native American community at large (5 points); and

• Key Staff—assessment of the qualifications, experience and proposed role of staff who will operate the NABDC. In particular, an assessment will be made to determine whether proposed staff possess the expertise in utilizing information systems as contemplated under the heading entitled, “Computer Requirements” (10 points).

2. Resources (20 points)

The applicant's proposal will be evaluated according to the following criteria:

• Resources—discuss those resources (not included as part of the cost-sharing arrangement) that will be used. (10 points);

• Partners—discuss how you plan to establish and maintain the network of five (5) Strategic Partners (5 points);

• Equipment—discuss how you plan to accomplish the computer hardware and software requirements (5 points).

3. Techniques and Methodologies (25 points)

The applicant's proposal will be evaluated as follows:

• Performance Measures—each performance measure should be related to the financial and market resources available and other information, as appropriate, in the geographic service area to the applicant and how the goals will be met. Specific attention should be placed on the Dollar Value of Transactions (as described under Definitions). This goal represents the sum of (a) Dollar Value of Financial Transactions and (b) Dollar Value for Gross Receipts. When proposing the minimum goal under Dollar Value of Transactions, the applicant is given the flexibility to address the percentage breakdown for items (a) and (b) within a specific range—not more than 60% and not less than 40%. The applicant should consider existing market conditions and its strategy to achieve the goal. The applicant may vary the percentage breakdown for items (a) and (b) as long as the sum meets the required goal as provided by MBDA in this Notice (as described under Geographic Service Areas). (15 points);

• Plan of Action—provide specific detail on how the applicant will start operations. NABDCs have thirty (30) days to become fully operational after an award is made. Fully operational means that all staff are hired, all signs are up, all items of furniture and equipment are in place and operational, all necessary forms are developed (e.g., client engagement letters, other standard correspondence, etc.), and the center is ready to open its doors to the public (5 points);

• Work Requirement Execution Plan—The applicant will be evaluated on how effectively and efficiently all staff time will be used to achieve the work requirements (5 points).

4. Proposed Budget and Supporting Budget Narrative (10 points).

The applicant's proposal will be evaluated on the following criteria:

• Reasonableness, allowability and allocability of costs (10 points).

Bonus Points

Proposed cost sharing, although not a requirement for NABDC application will be awarded bonus points on the following scale: more than 0-5%—1 point; 6-10%—2 points; 11-15%—3 points; 16-20%—4 points; and over 20%—5 points.

Key Points to Remember

• The Federal amount is not negotiable! The full amount of Federal funds designated for the award must be used in its entirety in the proposal.

• All proposed costs must be accompanied by written narrative. Read the budget narrative requirements in the application kit carefully. All costs must be explained in writing.

• Indirect Costs. The indirect cost policies contained in OMB Circulars A-21, A-87 and A-122 will apply to MBDA awards for its business development programs. Indirect costs are those costs proposed for common or joint objectives and which cannot be readily identified with a particular cost objective. Therefore, if the MBDA award is to be the sole source of support for the applicant organization, all costs are direct costs and no indirect costs should be proposed.

Organizations with indirect costs that do not have an established indirect cost rate negotiated and approved by a cognizant Federal agency may still propose indirect costs. For the recipient to recover indirect costs, however, the proposed budget must include a line item for such costs. Also, the recipient must prepare and submit a cost allocation plan and indirect cost rate proposal as required by applicable OMB circulars (A-21, A-87 and A-122). The allocation plan and the rate proposal must be submitted to the Department's Office of Acquisition Management within 90 days from the effective date of the proposed award.

• Audit Costs. Audits shall be performed in accordance with audit requirements contained in Office of Management and Budget Circular A-133, Audits of States, Local Governments, and Non-Profit Organizations, revised June 27, 2003. OMB Circular A-133 requires that non-profit organizations, government agencies, Indian tribes and educational institutions expending $500,000 or more in federal funds during a one-year period conduct a single audit in accordance with guidelines outlined in the circular. Applicants are reminded that other audits may be conducted by the Office of Inspector General.

• Management Fee. For-profit as well as not-for-profit organizations may negotiate their management fees, but they shall not exceed 7% of total estimated direct costs (Federal plus non-Federal) for the proposed award.

• Program Income. Many of MBDA's business development services programs allow their awardees to charge a fee for services rendered to clients. Where applicable, fees are considered program income and shall be accounted for and may be used to finance the non-Federal cost-share of the project. Any excess fee income shall be used to further the program purpose in accordance with the terms and conditions of the award.

Selection Procedures

Prior to the formal paneling process, each application will receive an initial screening to ensure that all required forms, signatures and documentation are present. Each application will receive an independent, objective review by a panel qualified to evaluate the applications submitted. MBDA anticipates that the review panel will be made up of at least three independent reviewers who are Federal employees who will review all applications based on the above evaluation criteria. Each reviewer will evaluate and provide a score for each proposal. The Director of MBDA makes the final recommendation to the Department of Commerce Grants Officer regarding the funding of applications, taking into account the following selection criteria:

1. The evaluations and rankings of the independent review panel;

2. The following funding priorities: (1) Identifying and working to eliminate barriers which limit the access of minority businesses to markets and capital; (2) Identifying and working to meet the special needs of minority businesses seeking to obtain large-scale contracts (in excess of $500,000) with institutional customers; and (3) Promoting the understanding and use of Electronic Commerce by the minority business community. The National Director or his designee reserves the right to conduct a site visit (subject to the availability of funding) to applicant organizations receiving at least 70% of the total points available for each evaluation criterion, in order to make a better assessment of the organization's capability to achieve the three funding priorities.

3. The availability of funding.

Unsuccessful Competition

On occasion, competitive solicitations or competitive panels may produce less than optimum results, such as competition resulting in the receipt of no applications or competition resulting in all unresponsive applications received. If the competition results in the receipt of only one application, it may or may not require additional action from MBDA depending upon the competitive history of the area, the quality of the application received, and the time and cost limits involved. In the event that any or all of these conditions arise, MBDA shall take the most time and cost-effective approach available that is in the best interest of the Government. This includes, but is not limited to: (1) Re-competition or (2) Re-Paneling or (3) Negotiation.

Universal Identifier

Applicants should be aware that they may be required to provide a Dun and Bradstreet Data Universal Numbering System (DUNS) number during the application process. See the June 27, 2003 (68 FR 38402) Federal Register notice for additional information. Organizations can receive a DUNS number at no cost by calling the dedicated toll-free DUNS Number request line at 1-866-705-5711 or on MBDA's website at http://www.mbda.gov.

Intergovernmental Review

Applications under this program are not subject to Executive Order 12372, “Intergovernmental Review of Federal Programs.”

Department of Commerce Pre-Award Notification Requirements for Grants and Cooperative Agreements

The Department of Commerce Pre-Award Notification Requirements for Grants and Cooperative Agreements contained in the Federal Register notice of October 1, 2001 (66 FR 49917), as amended by the Federal Register notice published on October 30, 2002 (67 FR 66109), are applicable to this solicitation.

Executive Order 12866

This notice was determined to be not significant for purposes of E.O. 12866.

Administrative Procedure Act/Regulatory Flexibility Act

Prior notice and an opportunity for public comment are not required by the Administrative Procedure Act for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis is not required and has not been prepared.

Paperwork Reduction Act

This document contains collection-of-information requirements subject to the Paperwork Reduction Act (PRA). The use of Standard Forms 424, 424A, 424B, CD-346, and SF-LLL have been approved by OMB under the respective control numbers 0348-0043, 0348-0044, 0348-0040, 0605-0001, and 0348-0046.

Notwithstanding any other provision of law, no person is required to respond to, nor shall any person be subject to a penalty for failure to comply with a collection of information subject to the Paperwork Reduction Act unless that collection displays a currently valid OMB Control Number.

Dated: August 25, 2003.
Ronald N. Langston,
National Director, Minority Business Development Agency.

[FR Doc. 03-22132 Filed 8-28-03; 8:45 am]

BILLING CODE 3510-21-P